ENVIRONMENTAL PROTECTION AGENCY

40 CFR Part 70

[EPA-R09-OAR-2022-0916; FRL-10530-02-R9]

Clean Air Act Operating Permit Program; California; South Coast Air Quality Management District

AGENCY: Environmental Protection Agency (EPA).

ACTION: Direct final rule.

SUMMARY: With this direct final rule, the Environmental Protection Agency (EPA) is promulgating approval of revisions to the Clean Air Act Operating Permit Program (title V) of the South Coast Air Quality Management District (SCAQMD or “District”) in California. The EPA is taking this final action in accordance with Federal regulations and the Clean Air Act (CAA or “Act”).

DATES: Effective September 17, 2024 without further action, unless adverse comment is received by August 19, 2024. If adverse comment is received, EPA will publish a timely withdrawal of the rule in the Federal Register.

ADDRESSES: Submit your comments, identified by Docket ID No. EPA-R09-OAR-2022-0916 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Catherine Valladolid, Air Permits Section (Air-3-1), U.S. Environmental Protection Agency, Region IX, (415) 947-4103, valladolid.catherine@epa.gov.

SUPPLEMENTARY INFORMATION: Throughout this document, “we,” “us,” and “our” refer to the EPA.

Table of Contents

I. Why is the EPA using a direct final rule?

II. Background

III. What are the requirements for approval of revisions to title V programs?

IV. What is the State's proposed title V program revision?

V. EPA Evaluation of Title V Program Revision

VI. Final Action

VII. Statutory and Executive Order Reviews

I. Why is the EPA using a direct final rule?

The EPA is publishing this direct final rule approving the SCAQMD's proposed title V program revisions without prior proposal because we consider it to be a noncontroversial action and anticipate no adverse comments. However, elsewhere in this issue of the Federal Register publication, the EPA is simultaneously publishing a proposal that will also serve as a public notice of the SCAQMD's proposed title V program revisions pursuant to 40 CFR 70.4(i).

II. Background

The CAA Amendments of 1990 include title V, which requires States to develop an operating permits program that meets the Federal criteria codified in 40 CFR part 70. The title V program requires certain sources of air pollution to obtain Federal operating permits from their respective States. These Federal operating permits improve enforcement and compliance by consolidating all applicable Federal requirements into one federally enforceable document. Before a State can issue title V permits, the EPA must approve its program under appendix A of part 70. States may submit revisions to their approved programs for EPA approval.

Title V of the CAA applies to “major stationary sources” as defined in title I, part D of the Act. 40 CFR 70.2 bases the definition of “major stationary source” on the nonattainment classification of the area where the source is located. Table 1 of this document shows the attainment/nonattainment/unclassifiable status for the applicable NAAQS within the District's jurisdictional boundary. As shown in table 1, the SCAQMD's jurisdiction is classified as nonattainment for fine particulate matter with an aerodynamic diameter of less than or equal to 10 micrometers (PM10), fine particulate matter with an aerodynamic diameter of less than or equal to 2.5 micrometers (PM2.5), lead (Pb), and ozone.¹ The SCAQMD's jurisdiction is comprosed of several air basins that have different nonattainment classifications. The District is designated attainment/unclassifiable for nitrogen dioxide (NO2), carbon monoxide (CO), and sulfur dioxide (SO2). 40 CFR 81.305.

¹ The EPA reclassified State lands within the Coachella Valley area from Severe-15 to an Extreme ozone nonattainment area, effective July 10, 2019. This reclassification to Extreme means that a major stationary source is now defined as a source emitting 10 tons or more per year of either oxides of nitrogen or volatile organic compounds. 84 FR 32841 (July 10, 2019).

Table 1—Air Quality Attainment Status
NAAQS pollutant/standard | Designation ᵃ | Classification | Basin/air quality management area
Annual NO2 (1971 Standard) | A/U |  | Los-Angeles-South Coast Air Basin.
1-Hour NO2 (2010 Standard) | A/U |  | Los Angeles County (part).
1-Hour NO2 (2010 Standard) | A/U |  | Orange County.
1-Hour NO2 (2010 Standard) | A/U |  | Riverside County (part).
1-Hour NO2 (2010 Standard) | A/U |  | San Bernadino County (part).
CO (1971 Standard) | A/U |  | Los-Angeles-South Coast Air Basin Area.
Pb (2008 Standard) | NA |  | Los Angeles County-South Coast Air Basin.
1-Hour SO2 (2010 Standard) | A/U |  | South Coast Air Basin.
24-Hour PM10 (1987 Standard) | NA | Serious | Coachella Valley Planning Area.
24-Hour PM10 (1987 Standard) | A/U |  | South Coast Air Basin.
Annual PM2.5 (1997 Standard) | NA | Moderate | Los-Angeles-South Coast Air Basin.
24-Hour PM2.5 (1997 Standard) | NA | Moderate | Los-Angeles-South Coast Air Basin.
24-Hour PM2.5 (2006 Standard) | NA | Serious | Los-Angeles-South Coast Air Basin.
Annual PM2.5 (2012 Standard) | NA | Serious | Los-Angeles-South Coast Air Basin.
1-Hour Ozone (1979 Standard) ᵇ | NA | Extreme | Los-Angeles-South Coast Air Basin.
1-Hour Ozone (1979 Standard) ᵇ | NA | Severe-17 | Southeast Desert Modified Air Quality Management Area.
8-Hour Ozone (1997 Standard) ᶜ | NA | Extreme | Riverside County (Coachella Valley).
8-Hour Ozone (1997 Standard) ᶜ | NA | Extreme | Los-Angeles-South Coast Air Basin.
8-Hour Ozone (2008 Standard) | NA | Extreme | Los-Angeles-South Coast Air Basin.
8-Hour Ozone (2008 Standard) | NA | Severe-15 | Riverside County (Coachella Valley).
8-Hour Ozone (2015 Standard) | NA | Extreme | Los-Angeles-South Coast Air Basin.
8-Hour Ozone (2015 Standard) | NA | Severe-15 | Riverside County (Coachella Valley).
ᵃ NA = Nonattainment; A/U = Attainment or Unclassified.
ᵇ On August 3, 2005, the EPA revoked the 1979 1-hour ozone NAAQS; however, the EPA is retaining the listing of the designated areas for the revoked 1979 ozone NAAQS in 40 CFR part 81, for the sole purpose of identifying the anti-backsliding requirements that may apply to the areas at the time of revocation. 70 FR 44470 (August 3, 2005).
ᶜ On March 6, 2015, the EPA revoked the 1997 8-hour ozone NAAQS; however, the EPA is retaining the listing of the designated areas for the revoked 1997 ozone NAAQS in 40 CFR part 81, for the sole purpose of identifying the anti-backsliding requirements that may apply to the areas at the time of revocation. 80 FR 12264 (March 6, 2015). On July 10, 2019, the Coachella Valley was reclassified to Extreme ozone nonattainment for the 1997 ozone NAAQS. 84 FR 32841 (July 10, 2019).

The emissions thresholds, above which a title V operating permit is required pursuant to 40 CFR 70.3(a), are shown in table 2.

Table 2—Title V Emissions Thresholds ᵃ
Nonattainment designation/classification | VOC or NOX (tpy) | CO (tpy) | PM10 (tpy)
Marginal | 100 | 100 | 100
Moderate | 100 | 100 | 100
Serious | 50 | 50 | 70
Ozone transport region (other than Severe or Extreme) | 50 (VOC only) |  |
Severe | 25 |  |
Extreme | 10 |  |
ᵃ 40 CFR 70.2.

The emissions thresholds for PM2.5, SO2, and Pb are 100 tons per year (tpy) regardless of attainment classification. For hazardous air pollutants (HAPs), the title V threshold is 10 tpy for any individual HAP and 25 tpy for any combination of HAPs.

III. What are the requirements for approval of revisions to title V programs?

Pursuant to 40 CFR 70.4(i), either the EPA or the State may initiate a title V program revision “when the relevant Federal or State statutes or regulations are modified or supplemented.” It is the responsibility of the State to keep the EPA apprised of any proposed modifications to its basic statutory or regulatory authority or procedures. Revision of a State program shall be accomplished as follows:

(a) The State submits a modified program description, Attorney General's statement (if necessary for expanded or additional authority), or other documents as the EPA determines to be necessary. 40 CFR 70.4(i)(2)(i).

(b) After the EPA receives a proposed program revision, it will publish a notice of the proposed change in the Federal Register and provide for a public comment period of at least 30 days. 40 CFR 70.4(i)(2)(ii).

(c) The Administrator shall approve or disapprove program revisions based on the requirements of 40 CFR part 70 and the Act. 40 CFR 70.4(i)(2)(iii).

(d) The EPA must publish a notice of approval in the Federal Register for any substantial program revisions. 40 CFR 70.4(i)(2)(iv).

(e) Approval of nonsubstantial revisions may be given by a letter from the Administrator to the Governor or a designee. 40 CFR 70.4(i)(2)(iv).

(f) A program revision shall become effective upon the approval of the Administrator. 40 CFR 70.4(i)(2)(iv).

IV. What is the State's proposed title V program revision?

Table 3 lists the rules submitted as part of the SCAQMD's title V program revisions and the dates they were adopted by the District and submitted to the EPA by the California Air Resources Board (CARB), which is the governor's designee for California rule submittals.²

² A detailed explanation of the EPA's evaluation of these proposed revisions as well as a change copy of the revised rule can be found in the Technical Support Document and docket developed for this action.

Table 3—Submitted Rules
Rule # | Rule title | Adoption date | Submitted date ᵃ
3001 | Title V Permits—Applicability | 12/4/2020 | 2/25/2021
ᵃ CARB transmitted the submittal to the EPA by a letter dated February 24, 2021.

The SCAQMD revised the title V emissions thresholds in its Rule 3001 for volatile organic compounds (VOC) and oxides of nitrogen (NOX) from 25 tpy to 10 tpy for the Riverside County portion of the Salton Sea Air Basin ³ to align with a recent reclassification for that area from “Severe-15” to “Extreme” for the 1997 8-hour ozone NAAQS.

³ The area often referred to as the “Coachella Valley” consists of the Riverside County portion of the Salton Sea Air Basin.

The District made two additional revisions to Rule 3001: (1) clarifying the geographic areas for the Phase One and Phase Two facilities and (2) including an applicability cutoff date of December 4, 2020, for Phase One title V facilities.

V. EPA Evaluation of Title V Program Revision

As detailed in section IV of this document, the Coachella Valley nonattainment area, which consists of the Riverside County portion of the Salton Sea Air Basin (an area within the jurisdiction of the SCAQMD), is classified as Extreme nonattainment for the 1997 8-hour ozone NAAQS. Table 2 in Rule 3001 was revised to decrease the title V “major source” emissions thresholds pursuant to 40 CFR 70.2, Definitions, for VOC and NOX from 25 tpy to 10 tpy for the Riverside County portion of the Salton Sea Air Basin. This decrease in the major source emissions thresholds aligns with the reclassification in nonattainment from Severe to Extreme for this area. Thus, we find that revised Rule 3001 references the appropriate potential to emit (PTE) thresholds for the SCAQMD nonattainment areas. By revising these thresholds, the SCAQMD meets the applicability requirements at 40 CFR 70.3, Applicability, to include all major sources within the District's jurisdiction.

Additionally, as indicated in section 2.1 of the Technical Support Document developed for this action, the SCAQMD made two additional revisions to Rule 3001: clarifying the geographic areas for the Phase One and Phase Two facilities and including an applicability cutoff date of December 4, 2020, for Phase One facilities. These revisions are non-substantive and thus do not affect our approvability determination pursuant to 40 CFR part 70 requirements. We therefore find all the proposed revisions to Rule 3001 approvable as a title V program revision.

VI. Final Action

As authorized in 40 CFR 70.4(i), the EPA is fully approving the submitted revisions because we find the proposed changes to Rule 3001 align with 40 CFR part 70 program elements. Rule 3001 refers to the correct VOC and NOX emission thresholds appropriate for an Extreme ozone nonattainment area. Therefore, the proposed changes are approvable as title V program revisions. We do not anticipate adverse comments, so we are finalizing this action without proposing it in advance. However, in the Proposed Rules section of this Federal Register, we are simultaneously proposing approval of the same submitted rule. If we receive adverse comments on the proposed revisions by August 19, 2024, we will publish a timely withdrawal in the Federal Register to notify the public that the direct final approval will not take effect. The EPA would then address all public comments in a subsequent final rule based on the proposed action. If we do not receive timely adverse comments, this direct final approval will be effective without further notice on September 17, 2024. We do not plan to open a second comment period on this action, so any parties interested in commenting should do so at this time.

VII. Statutory and Executive Order Reviews

Under the CAA, the Administrator may approve a State title V program submittal that complies with the provisions of the Act and applicable Federal regulations; 40 CFR 70.4(i). Thus, in reviewing title V program submittals, the EPA's role is to approve State choices, provided they meet the criteria of the CAA and the criteria, standards, and procedures defined in 40 CFR part 70. Accordingly, this action merely approves State law as meeting Federal requirements and does not impose additional requirements beyond those imposed by State law.

For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001);

• Is not subject to requirements of section 12(d) of the National Technology Transfer and Advancement Act of 1995 (15 U.S.C. 272 note) because application of those requirements would be inconsistent with the CAA; and

In addition, this action is not approved to apply on any Indian reservation land or in any other area where the EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. The EPA did not perform an EJ analysis and did not consider EJ in this action. Consideration of EJ is not required as part of this action, and there is no information in the record inconsistent with the stated goal of E.O. 12898 of achieving EJ for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by September 17, 2024. Filing a petition for reconsideration by the Administrator of this direct final rule does not affect the finality of this action for the purposes of judicial review, nor does it extend the time within which a petition for judicial review may be filed, and shall not postpone the effectiveness of such rule or action. This action may not be challenged later in proceedings to enforce its requirements (CAA section 307(b)(2)).

List of Subjects in 40 CFR Part 70

Environmental protection, Administrative practice and procedure, Air pollution control, Intergovernmental relations, Reporting and recordkeeping requirements.

Authority: 42 U.S.C. 7401 et seq.

Dated: July 2, 2024.
Martha Guzman Aceves,
Regional Administrator, Region IX.

For the reasons discussed in the preamble, the EPA amends chapter I, title 40 of the Code of Federal Regulations as follows:

PART 70—STATE OPERATING PERMIT PROGRAMS

1. The authority citation for part 70 continues to read as follows:

Authority: 42 U.S.C. 7401, et seq.

2. Amend appendix A, under “California”, by adding paragraph (dd)(6) to read as follows:

Appendix A to Part 70—Approval Status of State and Local Operating Permits Programs

* * * * *

California

* * * * *

(dd) * * *

(6) The District adopted revisions on December 4, 2020. The California Air Resources Board submitted revisions to the EPA on February 25, 2021. Approval is effective on September 17, 2024.

[FR Doc. 2024-15106 Filed 7-18-24; 8:45 am]

BILLING CODE 6560-50-P